ENVIRONMENTAL PROTECTION AGENCY

[ER-FRL-6640-6]

ENVIRONMENTAL IMPACT STATEMENTS; NOTICE OF AVAILABILITY

Responsible Agency: Office of Federal Activities, General Information (202) 564-7167 or http://www.epa.gov/compliance/nepa/.

Weekly receipt of Environmental Impact Statements

Filed May 19, 2003 Through May 23, 2003

Pursuant to 40 CFR 1506.9.

EIS No. 030241, Draft EIS, FHW, MS, Airport Parkway Extension, Improvements to MS-475 from I-20 to Old Brandon Road, U.S. Army COE Section 404 Permit, Rankin County, MS, Comment Period Ends: July 14, 2003, Contact: Cecil Vick (601) 965-4217.

EIS No. 030242, Final EIS, NRC, FL, Generic EIS—License Renewal of Nuclear Plants for the St. Lucie Units 1 and 2, Supplement 11, NUREG-1437, Implementation, Hutchinson Island, St. Lucie County, FL, Wait Period Ends: June 30, 2003, Contact: Dr. Michael T. Masnik (301) 415-1191.

EIS No. 030243, Draft EIS, FHW, TX, Eastern Extension of the President George Bush Turnpike (PGBT) from State Highway 78 to Interstate Highway 30, Construction of a New Location Controlled-Access Tollway in the cities of Garland, Sachse, Rowlett, and Dallas in Dallas County, TX, Comment Period Ends: July 14, 2003, Contact: Patrick A. Bauer (512) 536-5960.

EIS No. 030244, Draft EIS, AFS, SD, Elk Bugs and Fuels Project, Proposal to Perform Vegetation Management to Reduce the Spread of Mountain Pine Beetles and the Threat and Severity of Potential Wildfires, Black Hills National Forest Land and Resource Management Plan, Northern Hills Ranger District, Black Hills National Forest, Lawrence and Meade Counties, SD, Comment Period Ends: July 14, 2003, Contact: Elizabeth Krueger (307) 283-1361.

EIS No. 030245, Final EIS, BLM, CA, Imperial Sand Dunes Recreation Area, Revising and Updating the Recreation Area Management Plan and Amendment to the California Desert Conservation Area Plan, Imperial County, CA, Wait Period Ends: June 30, 2003, Contact: Lynnette Elser (760) 337-4420.

EIS No. 030246, Final EIS, AFS, MT, Canyon Lake Dam and Wyant Lake Dam Project, Proposal to Authorize Access to their Facilities with Prescribe Terms and Conditions, Canyon Creek Irrigation District (CCID), Bitterroot National Forest, Selway Bitterroot Wilderness, Ravalli County, MT, Wait Period Ends: June 30, 2003, Contact: Pete Zimmerman (406) 363-7100.

EIS No. 030247, Draft EIS, CGD, LA, Port Pelican Deepwater Port Construction and Operation, License Approval, Vermillion Lease Block 40 on the Continental Shelf in the Gulf of Mexico southwest of Freshwater City, LA, Comment Period Ends: July 15, 2003, Contact: Mark Prescott (202) 267-0225.

EIS No. 030248, Draft EIS, USA, NY, Thomas Jefferson Hall and Other Construction Activities in the Cadet Zone of the United States Military Academy, Implementation, West Point, Hudson River Valley, Orange and Putnam Counties, NY, Comment Period Ends: July 14, 2003, Contact: Douglas R. Cubbison (845) 938-3522.

EIS No. 030249, Final Supplement, NOA, Pelagic Sargassum Habitat Fishery Management Plan, Implementation, Updated Information concerning the Public's Opportunity to Comment on Proposed Actions, South Atlantic Region, Wait Period Ends: June 30, 2003, Contact: Dr. Roy Crabtree (727) 570-5301.

EIS No. 030250, Draft EIS, FTA, FL, MIC/Earlington Heights Connector Study, Earlington Heights Metrorail Station to the Miami-Dade Intermodal Center (MIC) Transit Improvements, Funding and NPDES, U.S. Army COE Section 10 and U.S. Coast Guard Bridge Permits Issuance, Miami-Dade County, FL, Comment Period Ends: July 14, 2003, Contact: Ms Elizabeth B. Martin (404) 562-3509.

Amended Notices

EIS No. 030055, Draft EIS, FHW, TX, Grand Parkway/TX-99 Improvement Project, I-10 to US 290, Funding, Right-of-Way Grant U.S. Army COE Section 404 Permit Issuance, Harris County, TX, Comment Period Ends: June 13, 2003, Contact: John Mack (512) 536-5960. Revision of FR Notice Published on 2/14/2003: CEQ Comment Period Ending 5/23/2003 has been Extended to 6/13/2003

EIS No. 030142, Draft EIS, AFS, CA, Combined Array for Research in Millimeter-wave Astronomy (CARMA) Project, Construction, Reconstruction and Operation of 23 Antennas at the Juniper Flat Site, Special-Use-Permit Issuance, Inyo Mountain, Inyo National Forest, Inyo County, CA, Comment Period Ends: June 23, 2003, Contact: Colleen (Chaz) O'Brien (760) 873-2490. Revision of FR Notice Published on 4/4/2003: CEQ Comment Period Ending on 5/19/2003 has been Extended to 6/23/2003.

EIS No. 030162, Revised Draft EIS, DOE, Hanford Site Solid (Radioactive and Hazardous) Waste Program, New Information on Waste Management Alternatives, Waste Management Practices Enhancement for Low-Level Radioactive Waste, Mixed Low-Level Radioactive Waste and Transuranic Waste, Richland, Benton County, WA, Comment Period Ends: June 11, 2003, Contact: Michael S. Collins (800) 426-4914. Revision of FR Notice Published on 4/11/2003: CEQ Comment Period Ending 5/27/2003 has been Extended to 6/11/2003.

EIS No. 030213, Draft EIS, NRC, SC, H.B. Robinson Steam Electric Plant, Unit No. 2 (RNP), Application for Operating License Renewal of Nuclear Plants for 20-Year, Supplement 13 located on the Shore of Lake Robinson, Darlington and Chesterfield Counties, SC, Comment Period Ends: July 30, 2003, Contact: Richard L. Emch (301) 415-1590. Revision of FR Notice Published on 5/16/2003: CEQ Comment Period Ending on 7/20/2003 has been Corrected to 7/30/2003.

Dated: May 27, 2003.
Joseph C. Montgomery,
Director, NEPA Compliance Division, Office of Federal Activities.

[FR Doc. 03-13551 Filed 5-29-03; 8:45 am]

BILLING CODE 6560-50-P